ENVIRONMENTAL PROTECTION AGENCY

[FRL-7015-1 ]

Methods for Assessing the Chronic Toxicity of Marine and Estuarine Sediment-Associated Contaminants With the Amphipod Leptocheirus plumulosus—First Edition

AGENCY: Environmental Protection Agency (EPA).

ACTION: Notice of Availability of Methods for Assessing the Chronic Toxicity of Marine and Estuarine Sediment-associated Contaminants with the Amphipod Leptocheirus plumulosus—First Edition.

SUMMARY: The U.S. Environmental Protection Agency (EPA) and the U.S. Army Corps of Engineers (USACE) are publishing a technical manual that describes procedures for testing an estuarine organism in the laboratory to evaluate the potential toxicity of contaminants in whole sediments. This document supplements (but does not replace) procedures originally published in 1994 (EPA/600/6-94/025), for measuring acute sediment toxicity in marine and estuarine sediments. This document includes a new method for evaluating sublethal effects of sediment-associated contaminants utilizing long-term sediment exposures.

Availability of Document

Copies of the complete document, titled Methods for Assessing the Chronic Toxicity of Marine and Estuarine Sediment-associated Contaminants with the Amphipod Leptocheirus plumulosus—First Edition (EPA/600/R-01/020) can be obtained from the National Service Center for Environmental Publications, P.O. Box 42419, Cincinnati, OH., 45242 by phone at 1-800-490-9198 or on their web site at www.epa.gov/ncepihom/orderpub.html. A pdf version of this document will be made available to be viewed or downloaded from the Office of Science and Technology's home page on the Internet at www.epa.gov/OST.

FOR FURTHER INFORMATION CONTACT: D. Scott Ireland, EPA, Standards and Health Protection Division (4305), Office of Science and Technology, Ariel Rios Building, 1200 Pennsylvania Avenue, NW., Washington, DC 20460; or call (202) 260-6091; fax (202) 260-9830; or e-mail ireland.scott@epa.gov.

SUPPLEMENTARY INFORMATION:

Background Information Sediment contamination is a widespread environmental problem that can potentially pose a threat to a variety of aquatic ecosystems. Sediment functions as a reservoir for common contaminants such as pesticides, herbicides, polychlorinated biphenyls (PCBs), polycyclic aromatic hydrocarbons (PAHs), and metals such as lead, mercury, and arsenic.

This technical manual describes procedures for testing an estuarine organism in the laboratory to evaluate the potential toxicity of contaminants in whole sediments. Sediments may be collected from the field or spiked with compounds in the laboratory. Toxicity methods are outlined for the estuarine amphipod, Leptocheirus plumulosus. Toxicity tests with this amphipod are conducted for 28 days in 1-L chambers containing 175 mL of sediment and abut 725 mL of overlying water. Overlying water is renewed three times per week and test organisms are fed during the toxicity tests. The endpoints of the 28 day test with L. plumulosus are survival, growth, and reproduction. This 28 day sediment toxicity test with L. plumulosus is recommended for use with sediment with varying levels of salinity from oligohaline to fully marine environments (from 1‰ to 35‰ salinity). The long-term sediment exposures with L. plumulosus are started with neonate (newborn) amphipods. After termination of the 28 day sediment exposure, the offspring are counted and the dry-weight or length of the adult amphipods is measured. The use of this uniform sediment testing procedure is expected to increase data accuracy and precision, facilitate test replication, and increase the comparative value of test results. This method provides a basis for consistent cross-program decision making within the EPA. Each EPA program will, however, retain the flexibility of deciding when and how to use this test and whether identified risks would trigger actions. This method also provides a consistent testing protocol for other Federal agencies, States, and Tribes. This technical manual has no immediate or direct regulatory consequence. It does not impose legally binding requirements, and may not apply to a particular situation depending on the circumstances. The EPA or USACE may change this technical manual in the future.

This technical manual has been subjected to review by EPA's National Health and Environmental Effects Research Laboratory and Office of Science and Technology and approved for publication. Mention of trade names or commercial products does not constitute endorsement by the Agency or recommendation for use.

Dated: July 3, 2001.
Geoffrey H. Grubbs,
Director, Office of Science and Technology.

[FR Doc. 01-18194 Filed 7-19-01; 8:45 am]

BILLING CODE 6560-50-P